DEPARTMENT OF THE TREASURY

Bureau of Engraving and Printing

Privacy Act of 1974, as Amended; System of Records

AGENCY: Bureau of Engraving and Printing (BEP), Department of the Treasury.

ACTION: Notice of proposed Privacy Act of 1974 system of records and request for comments.

SUMMARY: In accordance with the Privacy Act of 1974, 5 U.S.C. 552a the Department of the Treasury, Bureau of Engraving and Printing, proposes to establish a new Privacy Act of 1974 system of records titled “Treasury/BEP .049—Bureau of Engraving and Printing Tour Scheduling System” also known as BEP Tour Scheduling System.

DATES: Comments must be received no later than January 27, 2014. This new Privacy Act system of records will be effective January 30, 2014, unless comments are received which result in a contrary determination.

ADDRESSES: Comments should be sent to Leslie J. Rivera-Pagán, Privacy Officer, Office of the Chief Counsel, U.S. Department of the Treasury, Bureau of Engraving and Printing, Room 419-A, 14th & C Streets SW., Washington, DC 20228, Attention: Revisions to Privacy Act Systems of Records. Comments can also be faxed to (202) 874-2951 or emailed to Leslie.Rivera-Pagan@bep.gov. For fax and emails, please place “Revisions to SORN .049-BEP Tour Scheduling System” in the subject line. Comments will be made available for public inspection upon written request. The BEP will make such comments available for public inspection and copying at the above listed location, on official business days between 9:00 a.m. and 5:00 p.m. eastern time. Persons wishing to review the comments must request an appointment by telephoning (202) 874-2500. All comments received, including attachments and other supporting documents, are part of the public record and subject to public disclosure. You should submit only information that you wish to make available publicly. All comments received will be posted without change to http://www.regulations.gov, including any personal information provided.

FOR FURTHER INFORMATION CONTACT: Leslie J. Rivera-Pagán at (202) 874-2500 or Leslie.Rivera-Pagan@bep.gov.

SUPPLEMENTARY INFORMATION:

In accordance with the Privacy Act of 1974, 5 U.S.C. 552a, the Department of the Treasury, Bureau of Engraving and Printing, proposes to establish a new system of records titled, “Treasury/BEP .049-BEP Tour Scheduling System.”

The new proposed system of records is published in its entirety below.

Dated: December 6, 2013.
Helen Goff Foster,
Deputy Assistant Secretary for Privacy, Transparency, and Records.

TREASURY/BEP .049

System name:

Bureau of Engraving and Printing Tour Scheduling System also known as BEP Tour Scheduling System—Treasury/BEP.

System location:

Bureau of Engraving and Printing, Office of External Relations (OEX)—Public Service Division, Eastern Currency Facility (ECF), 14th & C Streets SW., Washington, DC 20228 and Bureau of Engraving and Printing, Office of External Relations (OEX)—External Affairs Division, Western Currency Facility (WCF), 9000 Blue Mound Road, Fort Worth, TX 76131.

Categories of individuals covered by the system:

Primary and secondary contacts of group of visitors or congressional groups and Members of Congress and congressional staffers scheduling tours with the BEP's Tour and Visitor Center in Washington, DC, and Fort Worth, TX.

Categories of records in the system:

• Name of Primary and Secondary Contact (WCF only) of Group of Visitors;

• Name of Constituent known as Primary Contact of Congressional Group, Member of Congress, and Staffer;

• Title and State of Member of Congress;

• Phone Number, Email Address, Fax Number of Congressional Staffer;

• Phone Number, Email Address, Fax Number, Mailing Address, City, State, Zip Code of Primary Contact of Group of Visitors;

• Phone Number of Secondary Contact of Group of Visitors (WCF only);

• Date, Time, and Type of Tour;

• Name of Group;

• Number of Individuals in group;

• Grade of School Group (WCF only);

• Information required to accommodate a disability of an Individual in a Group Tour, if applicable; and

• Confirmation Number.

Authority for maintenance of the system:

5 U.S.C. 301, 31 U.S.C. 321

Purpose(s):

The purpose of this system of records is to establish a manual and electronic database that will facilitate the scheduling of group and congressional tour reservations for the BEP's facilities in Washington, DC, (DCF) and Fort Worth, TX (WCF). Records are for internal purposes only and will facilitate the reservation process for the following tours within the Washington, DC, and Fort Worth, TX, facilities:

• Special Gallery Tours (DCF & WCF);

• Group Tours (DCF & WCF);

• Congressional Tours (DCF & WCF);

• Floor Tours (DCF); and

• VIP Tours (WCF).

The BEP Tour Scheduling System, the Group Reservation Request Form, and the Congressional Tour Reservation Form will help the OEX to: (1) Record the daily number of visitors who take the group and congressional tour at BEP's DCF and WCF facilities; (2) accommodate the visitors in a group or congressional tour; (3) anticipate the number of visitors expected on a specific day and timeframe; (4) provide accommodations for individuals with disabilities who take a group tour; (5) identify whether the visitors are a group or congressional tour; (6) send confirmation notices to the point of contact of the group of visitors or congressional staffer; and (7) send to the point of contact of the group of visitors or congressional staffer advance notices of any changes that may affect reservations.

The BEP will not require individual members of a group scheduling or taking tours to present identification or sign entry logs or registers to be able to take any tour within the DCF or WCF facilities. See 31 CFR part 605.1.

Routine uses of records maintained in the system, including categories of users and the purposes of such uses:

These records may be disclosed to appropriate agencies, entities, and persons when: (a) The Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records are stored on electronic media and hard copy. Paper records are maintained in locked cabinets in a locked room.

Retrievability:

Records are retrieved by:

• Name of primary Contact of Group, Member of Congress, Congressional Staffer, Constituent—Primary Contact of Congressional Group;

• Title and State of Member of Congress;

• Date of Tour;

• Time of Tour;

• Type of Tour;

• Number in Group;

• Name of Group;

• Fax Number, Email Address, Phone Number, City, State, and Zip Code of Primary Contact of Group of Visitors;

• Email Address and Phone Number of Congressional Staffer;

• Approver/User ID of BEP employee or contractor;

• Date when Record was Created or Modified;

• Confirmation Number;

• Name of Secondary Contact of Group of Visitors;

• Phone number of Secondary Contact of Group of Visitors; and

• Grade of School Group.

Safeguards:

Access to electronic and paper records is limited to authorized personnel in the Office of External Relations, Public Service Division, Eastern Currency Facility in Washington, DC, and the Office of External Relations, External Affairs Division, Western Currency Facility in Fort Worth, TX, and determined by pre-authorized privileges granted to users based on their need to know to perform daily job functions.

Retention and disposal:

Records are retained and disposed in accordance with the Bureau of Engraving and Printing Agency Specific Records Schedule N1/318/04/21 as required by the National Archives and Records Administration. Paper records that are collected with respect to a group or congressional tour will be destroyed once the information is transferred to electronic record. The electronic records will be destroyed automatically upon completion of the tour.

System manager(s) and address:

Manager, Bureau of Engraving and Printing, Eastern Currency Facility, Office of External Relations, Public Service Division, 14th & C Streets SW., Washington, DC 20228 and Manager, Bureau of Engraving and Printing, Western Currency Facility, Office of External Relations, External Affairs Division, 9000 Blue Mound Road, Fort Worth, TX 76131.

Notification procedure:

Individuals seeking to determine whether this system of records contains information about themselves should address written inquires to the Disclosure Officer, Department of the Treasury, Bureau of Engraving and Printing, Office of the Chief Counsel, 14th & C Streets SW., Room 419-A, Washington, DC 20228.

Record access procedures:

See, “Notification Procedure” above.

Contesting record procedures:

See, “Notification Procedure” above.

Record source categories:

The information contained in the system originates from the individual scheduling the group or congressional tour reservation.

Exemptions claimed for the system:

None.

[FR Doc. 2013-30802 Filed 12-24-13; 8:45 am]

BILLING CODE 4840-01-P